DEPARTMENT OF THE INTERIOR

Bureau of Land Management

[PO4820000251; WYW-152420, WYWY106254191; MTM-31858, MTMT106114126]

Public Land Order No. 7959; Extension of Public Land Order No. 7628, Withdrawal of Pryor Mountain Wild Horse Range; Wyoming

AGENCY: Bureau of Land Management, Interior.

ACTION: Public Land Order.

SUMMARY: This Public Land Order (PLO) extends the duration of the withdrawal created by PLO No. 7628, which would otherwise expire March 7, 2025, for an additional 20-year period. PLO No. 7628 withdrew 1,960.10 acres of public lands in Big Horn County, Wyoming, from settlement, sale, location, or entry under the general land laws, including the United States mining laws, subject to valid existing rights, to protect wild horse and wildlife habitat and watershed, recreation, cultural, and scenic values within the Pryor Mountain Wild Horse Range (PMWHR).

DATES: This PLO takes effect on March 8, 2025.

FOR FURTHER INFORMATION CONTACT: Nathaniel Arave, Field Manager, Bureau of Land Management, Montana/Dakotas State Office, Billings Field Office, 5001 Southgate Drive, Billings, Montana 59101, (406) 896-5013 or narave@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires extension of the withdrawal to protect habitat for wild horses and wildlife and watershed, recreation, cultural, and scenic values within the PMWHR. The BLM has updated the legal description of the lands to conform to Specifications for Descriptions of Land Status (2017).

Order

By virtue of the authority vested in the Secretary of the Interior by section 204(f) of the Federal Land Policy and Management Act of 1976, 43 U.S.C. 1714(f), it is ordered as follows:

1. Subject to valid existing rights, PLO No. 7628 (70 FR 11271 (2005)), which withdrew 1,960.10 acres of public lands from settlement, sale, location, or entry under the general land laws, including the United States mining laws, for the protection of wild horse and wildlife habitat and watershed, recreation, cultural, and scenic values within the PMWHR, is hereby extended for an additional 20-year period. The lands are described as follows:

Sixth Principal Meridian, Wyoming

T. 58 N., R. 95 W.,

Sec. 19, lot 2 and SE¼NE¼;

Sec. 20, N½SW¼, SE¼SW¼, and SE¼;

Sec. 21, lots 6 and 8, and SW¼SW¼;

Sec. 23, NE¼SW¼;

Sec. 26, SW¼NW¼ and W½SW¼;

Sec. 27, S½;

Sec. 28, NW¼NE¼, S½NE¼, and S½;

Sec. 29, NE¼, NE¼NW¼, and NE¼SE¼;

Sec. 33, NE¼ and NE¼NW¼;

Sec. 34, NW¼.

The area described contains 1,960.10 acres.

2. The withdrawal extended by this Order will expire 20 years from the effective date of this Order, unless, as a result of review conducted prior to the expiration date pursuant to section 204(f) of the Federal Land Policy and Management Act of 1976, 43 U.S.C. 1714(f), the Secretary determines that the withdrawal shall be further extended.

(Authority: 43 U.S.C. 1714)

Robert T. Anderson,
Solicitor.

[FR Doc. 2025-00362 Filed 1-8-25; 8:45 am]

BILLING CODE 4331-20-P